DEPARTMENT OF COMMERCE

International Trade Administration

[A-423-813]

Citric Acid and Certain Citrate Salts From Belgium: Notice of Initiation and Preliminary Results of Antidumping Duty Changed Circumstances Review

AGENCY: Enforcement and Compliance, International Trade Administration, Department of Commerce.

SUMMARY: The U.S. Department of Commerce (Commerce) is initiating a changed circumstances review of the antidumping duty (AD) order on citric acid and certain citrate salts (citric acid) from Belgium. Further, Commerce preliminarily determines that Citribel nv (Citribel) is the successor-in-interest to S.A. Citrique Belge N.V. (Citrique Belge) and should be assigned the same AD cash deposit rate for purposes of the AD order. Interested parties are invited to comment on these preliminary results.

DATES: Applicable June 13, 2022.

FOR FURTHER INFORMATION CONTACT: Deborah Cohen, AD/CVD Operations, Office III, Enforcement and Compliance, International Trade Administration, U.S. Department of Commerce, 1401 Constitution Avenue NW, Washington, DC 20230; telephone: (202) 482-4521.

SUPPLEMENTARY INFORMATION:

Background

On July 25, 2018, Commerce published the AD order on citric acid from Belgium in the Federal Register.¹ On April 27, 2022, Commerce received a request on behalf of Citribel for an expedited changed circumstances review, pursuant to section 751(b)(1) of the Tariff Act of 1930, as amended (the Act) and 19 CFR 351.216(b), to establish Citribel as the successor-in-interest to Citrique Belge, a Belgian producer and exporter of citric acid, and thus, entitled to the AD cash deposit rate of Citrique Belge.² We did not receive comments from other interested parties concerning this request.

¹ See Citric Acid and Certain Citrate Salts from Belgium, Colombia and Thailand: Antidumping Duty Orders, 83 FR 35214 (July 25, 2018) (Order).

² See Citribel's Letter, “Citric Acid and Certain Citrate Salts from Belgium—Request for Changed Circumstances Review,” dated April 27, 2022 (CCR Request).

Scope of the Order

The merchandise covered by this Order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend.

The scope also includes all forms of crude calcium citrate, including dicalcium citrate monohydrate, and tricalcium citrate tetrahydrate, which are intermediate products in the production of citric acid, sodium citrate, and potassium citrate.

The scope includes the hydrous and anhydrous forms of citric acid, the dihydrate and anhydrous forms of sodium citrate, otherwise known as citric acid sodium salt, and the monohydrate and monopotassium forms of potassium citrate. Sodium citrate also includes both trisodium citrate and monosodium citrate which are also known as citric acid trisodium salt and citric acid monosodium salt, respectively.

The scope does not include calcium citrate that satisfies the standards set forth in the United States Pharmacopeia and has been mixed with a functional excipient, such as dextrose or starch, where the excipient constitutes at least 2 percent, by weight, of the product.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9295 of the HTSUS. Blends that include citric acid, sodium citrate, and potassium citrate are classifiable under 3824.99.9295 of the HTSUS. Although the HTSUS subheadings are provided for convenience and customs purposes, the written description of the merchandise is dispositive.

Initiation of Changed Circumstances Review

Pursuant to section 751(b)(1) of the Act, Commerce will conduct a changed circumstances review upon receipt of information concerning, or a request from, an interested party for a review of an AD order which shows changed circumstances sufficient to warrant a review of the order. In the past, Commerce has used changed circumstances reviews to address the applicability of cash deposit rates after there have been changes in the name or structure of a respondent, such as a merger or spinoff (`successor-in-interest' or `successorship' determinations).³ On March 14, 2022, Citrique Belge changed its name to Citribel and claims that the change was in name only and that its operations remain materially unchanged. Based on a review of the request from Citribel, and in accordance with section 751(b) of the Act and 19 CFR 351.216(d), we find that the information submitted in the CCR Request supporting Citribel's claim that it should be treated as the successor-in-interest to Citrique Belge is sufficient to warrant such a review to determine whether Citribel is entitled to Citrique Belge's AD cash deposit rate.

³ See, e.g., Diamond Sawblades and Parts Thereof from the People's Republic of China: Initiation and Preliminary Results of Antidumping Duty Changed Circumstances Review, 82 FR 51605, 51606 (November 7, 2017) (Diamond Sawblades Preliminary), unchanged in Diamond Sawblades and Parts Thereof from the People's Republic of China: Final Results of Antidumping Duty Changed Circumstances Review, 82 FR 60177 (December 19, 2017) (Diamond Sawblades Final).

Preliminary Results

Section 351.221(c)(3)(ii) of Commerce's regulations permits Commerce to combine the notice of initiation of a changed circumstances review and the notice of preliminary results if Commerce concludes that expedited action is warranted. In this instance, because the record contains information necessary to make a preliminary finding, we find that expedited action is warranted and have combined the notice of initiation and the notice of preliminary results.

Accordingly, pursuant to section 751(b) of the Act, we have conducted a successor-in-interest analysis in response to Citribel's request. In making a successor-in-interest determination, Commerce examines several factors, including, but not limited to, changes in the following: (1) management and ownership; (2) production facilities; (3) supplier relationships; and (4) customer base.⁴ While no single factor or combination of factors will necessarily provide a dispositive indication of a successor-in-interest relationship, generally, Commerce will consider the new company to be the successor to the previous company if the new company's resulting operation is not materially dissimilar to that of its predecessor.⁵ Thus, if the evidence demonstrates that, with respect to the production and sales of the subject merchandise, the new company operates as essentially the same business entity as the former company, Commerce will accord the new company the same antidumping treatment as its predecessor.⁶

⁴ See, e.g., Diamond Sawblades Final; see also Certain Frozen Warmwater Shrimp from India: Initiation and Preliminary Results of Antidumping Duty Changed Circumstances Review, 83 FR 37784 (August 2, 2018), unchanged in Certain Frozen Warmwater Shrimp from India: Notice of Final Results of Antidumping Duty Changed Circumstances Review, 83 FR 49909 (October 3, 2018).

⁵ See, e.g., Diamond Sawblades Final; see also Certain Frozen Warmwater Shrimp from India: Initiation and Preliminary Results of Antidumping Duty Changed Circumstances Review, 83 FR 37784 (August 2, 2018), unchanged in Certain Frozen Warmwater Shrimp from India: Notice of Final Results of Antidumping Duty Changed Circumstances Review, 83 FR 49909 (October 3, 2018).

⁶ See, e.g., Notice of Initiation and Preliminary Results of Antidumping Duty Changed Circumstances Review: Certain Frozen Warmwater Shrimp from India, 77 FR 64953 (October 24, 2012), unchanged in Final Results of Antidumping Duty Changed Circumstances Review: Certain Frozen Warmwater Shrimp from India, 77 FR 73619 (December 11, 2012).

We preliminarily determine that Citribel is the successor-in-interest to Citrique Belge for purposes of the Order. Specifically, Citribel provided documentation demonstrating approval of Citrique Belge's name change by Citrique Belge's shareholders (which remained unchanged from prior to the name change).⁷ Citrique Belge's shareholders approved of the name change in March 2022, the name change was effectuated by the new articles of association dated March 14, 2022,⁸ and it was announced on March 16, 2022.⁹ Citribel asserts that the name change was made with the purpose of “promot{ing} the company's commercial growth.” ¹⁰ As support, Citribel provided the search results from the Belgian Federal Public Service enquiry that demonstrate that Citribel's enterprise number and address remain the same as found on Citrique Belge's most recent financial statements.¹¹ Citribel also provided updated articles of association that reflect the name change, which reflects that the purpose of the company remains unchanged from the prior articles.¹² The lack of changes to the articles supports the claim that Citribel's operations with respect to the sales of subject merchandise have not materially changed as a result of its name change.

⁷ See CCR Request at Exhibits 1 and 6.

⁸ Id. at Exhibit 1 and 2a.

⁹ Id. at Exhibit 3.

¹⁰ Id. at 3.

¹¹ Id. at Exhibits 11 and 12.

¹² Id. at Exhibits 2a and 2b at Article 3.

In addition, the record includes a list of board of directors, an organizational chart and an ownership structure that all remain the same before and after the name change, supporting Citribel's assertion that there were no ownership, director, or management changes related to the name change.¹³ Further, Citribel notes that there was no change to its production facility as a result of the name change, as Citribel operates the sole production facility that was operated by Citrique Belge.¹⁴ Moreover, Citribel provided lists of both its suppliers and U.S. customers, for the year before and the month following the name change to support its assertion that there have been no material changes to Citrique Belge's suppliers or its customer base following the name change. This documentation shows that the top suppliers and customers are substantially similar both pre- and post-name change.

¹³ Id. at Exhibits 4-6.

¹⁴ Id. at 4-5 and Exhibit 13 at 2.

Therefore, based on the aforementioned evidence on the record, we preliminarily determine that Citribel is the successor-in-interest to Citrique Belge, as the change in the business' name was not accompanied by significant changes to its management and ownership, production, facilities, supplier relationships, or customer base. Thus, we preliminarily determine that Citribel operates as essentially the same business entity as Citrique Belge, that Citribel is the successor-in-interest to Citrique Belge, and that Citribel should receive the same AD cash deposit rate with respect to subject merchandise as its predecessor, Citrique Belge.

Should our final results remain unchanged from these preliminary results, we will instruct U.S. Customs and Border Protection to assign entries of subject merchandise exported by Citribel the AD cash deposit rate applicable to Citrique Belge. Commerce will issue its final results of the review in accordance with the time limits set forth in 19 CFR 351.216(e).

Public Comment

Pursuant to 19 CFR 351.310(c), any interested party may request a hearing within 14 days of publication of this notice.¹⁵ In accordance with 19 CFR 351.309(c)(1)(ii), interested parties may submit case briefs not later than 14 days after the date of publication of this notice.¹⁶ Rebuttal briefs, limited to issues raised in the case briefs, may be filed no later than seven days after the case briefs, in accordance with 19 CFR 351.309(d).¹⁷ Parties who submit case or rebuttal briefs are encouraged to submit with each argument: (1) A statement of the issue; (2) a brief summary of the argument; and (3) a table of authorities.¹⁸ All comments are to be filed electronically using ACCESS, available to registered users at https://access.trade.gov, and must also be served on interested parties. An electronically filed document must be received successfully in its entirety by ACCESS by 5:00 p.m. Eastern Time on the day it is due.¹⁹ Note that Commerce has temporarily modified certain requirements for serving documents containing business proprietary information, until further notice.²⁰

¹⁵ Commerce is exercising its discretion under 19 CFR 351.310(c) to alter the time limit for requesting a hearing.

¹⁶ Commerce is exercising its discretion under 19 CFR 351.309(c)(1)(ii) to alter the time limit for the filing of case briefs.

¹⁷ Commerce is exercising its discretion under 19 CFR 351.309(d)(1) to alter the time limit for the filing of rebuttal briefs.

¹⁸ See 19 CFR 351.309(c)(2).

¹⁹ See 19 CFR 351.303(b).

²⁰ See Temporary Rule Modifying AD/CVD Service Requirements Due to COVID-19; Extension of Effective Period, 85 FR 41363 (July 10, 2020).

Consistent with 19 CFR 351.216(e), we will issue the final results of this changed circumstances review no later than 270 days after the date on which this review was initiated, or within 45 days if all parties agree to our preliminary finding.

Notification to Interested Parties

This notice is published in accordance with sections 751(b)(1) and 777(i) of the Act and 19 CFR 351.216(b), 351.221(b) and 351.221(c)(3).

Dated: June 7, 2022.
Lisa W. Wang,
Assistant Secretary for Enforcement and Compliance.

[FR Doc. 2022-12709 Filed 6-10-22; 8:45 am]

BILLING CODE 3510-DS-P